DEPARTMENT OF ENERGY

Federal Energy Regulatory Commission

[Docket No. RP01-175-001]

Total Peaking Services, L.L.C.; Notice of Tariff Change

December 28, 2000.

Take notice that on December 19, 2000, Total Peaking Services, L.L.C. (Total Peaking), tendered for filing Revised Tariff Sheets Nos. 64 and 82 of Total Peaking's FERC Gas Tariff, Original Volume No. 1. The Revised Sheets remove language from Total Peaking's Tariff that currently subjects customers to imbalance penalties.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 01-166 Filed 1-3-01; 8:45 am]

BILLING CODE 6717-01-M